SMALL BUSINESS ADMINISTRATION

[Declaration of Disaster #P020]

State Of South Carolina

As a result of the President's major disaster declaration for Public Assistance on February 13, 2004, the U.S. Small Business Administration is activating its disaster loan program only for private non-profit organizations that provide essential services of a governmental nature. I find that Aiken, Bamburg, Barnwell, Calhoun, Clarendon, Edgefield, Florence, Horry, Kershaw, Lexington, Marion, McCormick, Newberry, Orangeburg, Richland, Sumter, and Williamsburg Counties in the State of South Carolina constitute a disaster area due to damages caused by a severe ice storm occurring on January 26, 2004, and continuing through January 30, 2004. Applications for loans for physical damage as a result of this disaster may be filed until the close of business on April 13, 2004, at the address listed below or other locally announced locations: U.S. Small Business Administration, Disaster Area 2 Office, One Baltimore Place, Suite 300, Atlanta, GA 30308.

The interest rates are:

For Physical Damage:

Non-profit organizations without credit available elsewhere: 2.900%.

Non-profit organizations with credit available elsewhere: 4.875%.

The number assigned to this disaster for physical damage is P02011.

(Catalog of Federal Domestic Assistance Program Nos. 59008)

Dated: February 18, 2004.
S. George Camp,
Acting Associate Administrator for Disaster Assistance.

[FR Doc. E4-376 Filed 2-24-04; 8:45 am]

BILLING CODE 8025-01-P